ENVIRONMENTAL PROTECTION AGENCY

[FRL-7778-8]

Science Advisory Board Staff Office; Notification of Advisory Meetings of the Science Advisory Board; Illegal Competitive Advantage Economic Benefit Advisory Panel

AGENCY: Environmental Protection Agency (EPA).

ACTION: Notice.

SUMMARY: The Science Advisory Board (SAB) Illegal Competitive Advantage (ICA) Economic Benefit (EB) Advisory Panel will hold three public advisory meetings, two teleconference and one face-to-face, to provide advice to the Agency on economic methods related to assessing economic benefits attributed to non-compliance with EPA regulations.

DATES: July 12, 2004, August 5-6, 2004, and September 22, 2004.

1. July 12, 2004 Public Conference Call

The SAB ICA EB Advisory Panel will meet on July 12, 2004, via teleconference from 10 am to 12 noon Eastern Standard Time.

2. August 5-6, 2004 Public Meeting

The SAB ICA EB Advisory Panel will meet on August 5-6, 2004, in Washington, DC. The meeting will commence at 9 am Eastern Standard Time on August 5, 2004, and adjourn no later than 5:30 pm on August 6, 2004.

3. September 22, 2004 Public Conference Call

The SAB ICA EB Advisory Panel will meet on September 22, 2004, via teleconference from 2 to 4 pm Eastern Standard Time.

ADDRESSES: The two public teleconferences will take place via teleconference only. The face-to-face public meeting will take place at the SAB Conference Center, 1025 F Street, NW., Suite 3700, Washington, DC 20004.

FOR FURTHER INFORMATION CONTACT: Any member of the public who wishes to: Obtain the teleconference call-in numbers and access codes; would like to submit written or brief oral comments (5 minutes or less); or who wants further information concerning these public meetings should contact Dr. Jack Kooyoomjian, Designated Federal Officer (DFO), EPA SAB, 1200 Pennsylvania Avenue, NW., (MC 1400F), Washington, DC 20460; via telephone/voice mail: (202) 343-9984; fax: (202) 233-0643; or e-mail at: kooyoomjian.jack@epa.gov. General information concerning the SAB can be found on the EPA Web site at: http://www.epa.gov/sab.

SUPPLEMENTARY INFORMATION: Background: Pursuant to the Federal Advisory Committee Act, Public Law 92-463, the SAB Staff Office hereby gives notice of three public meetings of the SAB ICA EB Advisory Panel. The Office of Enforcement and Compliance Assurance (OECA) requested that the SAB review a White Paper entitled, “Identifying and Calculating Economic Benefit That Goes Beyond Avoided and/or Delayed Costs.” Additional background information on this advisory activity, as well as the Federal Register notice (68 FR 46604, August 6, 2003) soliciting nominations for Panel membership can be found on the SAB Web site at: http://www.epa.gov/sab.

Purpose of the July 12, 2004 Public Teleconference: The purpose of this public teleconference meeting is to discuss the charge to the ICA EB Advisory Panel; review advisory and background materials; and plan for the August 5-6, 2004, face-to-face public advisory meeting.

Purpose of the August 5-6, 2004 Public Face-to-Face Meeting: The purpose of this meeting is to review the EPA White Paper and respond to the charge questions.

Purpose of the September 22, 2004 Public Teleconference: The purpose of this teleconference is to complete the draft advisory report of the ICA EB Advisory Panel.

Availability of Meeting Materials: Copies of the agendas for the SAB meetings described in this notice will be posted on the SAB Web site at: http://www.epa.gov/sab prior to each meeting. Persons who wish to obtain copies of the EPA White Paper and other background materials may find them at: http://www.indecon.com/iec_web/practice/SAB.asp. For further information regarding the EPA White Paper, please contact Mr. Jonathan Libber of the U.S. EPA, Office of Enforcement and Compliance Assurance (Mail Code 2248A), by telephone/voice mail at (202) 564-6102, by fax at (202) 564-9001; or via e-mail at libber.jonathan@epa.gov.

Providing Oral or Written Comments at SAB Meetings: It is the policy of the SAB Staff Office to accept written public comments of any length, and to accommodate oral public comments wherever possible. The SAB Staff Office expects the public statements presented at its meetings will not be repetitive of previously-submitted oral or written statements.

Oral Comments: In general, each individual or group requesting an oral presentation at a face-to-face meeting will be limited to a total time of five minutes (unless otherwise indicated). Requests to provide oral comments must be in writing (e-mail, fax, or mail) and received by the DFO no later than noon Eastern Time five business days prior to the meeting in order to reserve time on the meeting agenda. Speakers should bring at least 35 copies of their comments and presentation slides for distribution to the reviewers and public at the meeting.

Written Comments: Although the SAB Staff Office accepts written comments until the date of the meeting (unless otherwise stated), written comments should be received in the SAB Staff Office no later than noon Eastern Time five business days prior to the meeting so that the comments may be made available to the Panelists for their consideration. Comments should be supplied to the DFO (preferably by e-mail) at the address/contact information noted above in the following formats: one hard copy with original signature, and one electronic copy via e-mail (acceptable file format: Adobe Acrobat PDF, WordPerfect, Word, or Rich Text files (in IBM-PC/Windows 98/2000/XP format)). Those providing written comments and who attend the meeting are also asked to bring 35 copies of their comments for public distribution.

Meeting Access: Individuals requiring special accommodation at this meeting, including wheelchair access to the conference room, should contact the DFO at the phone number or e-mail address noted above at least five business days prior to the meeting, so that appropriate arrangements can be made.

Dated: June 17, 2004.
Vanessa T. Vu,
Director, EPA Science Advisory Board Staff Office.

[FR Doc. 04-14459 Filed 6-24-04; 8:45 am]

BILLING CODE 6560-50-P